DEPARTMENT OF COMMERCE

National Oceanic and Atmospheric Administration

[RTID 0648-XB587]

Western Pacific Fishery Management Council; Public Meetings

AGENCY: National Marine Fisheries Service (NMFS), National Oceanic and Atmospheric Administration (NOAA), Commerce.

ACTION: Notice of public meeting.

SUMMARY: The Western Pacific Fishery Management Council (Council) will hold its 142nd Scientific and Statistical Committee (SSC), Executive and Budget Standing Committee, and 189th Council meetings to take actions on fishery management issues in the Western Pacific Region.

DATES: The meetings will be held between November 30 and December 9, 2021. For specific times and agendas, see SUPPLEMENTARY INFORMATION.

ADDRESSES: The meetings will be held by web conference via Webex. Instructions for connecting to the web conference and providing oral public comments will be posted on the Council website at www.wpcouncil.org. For assistance with the web conference connection, contact the Council office at (808) 522-8220.

The Council has arranged host sites only for the 189th Council meeting at the following venues: Cliff Pointe, 304 W. O'Brien Drive, Hagatna, Guam; BRI Building Suite 205, Kopa Di Oru St., Garapan, Saipan, Commonwealth of the Northern Mariana Islands (CNMI); and, Tedi of Samoa Building Suite 208B, Fagatogo Village, American Samoa.

FOR FURTHER INFORMATION CONTACT: Contact Kitty M. Simonds, Executive Director, Western Pacific Fishery Management Council; phone: (808) 522-8220.

SUPPLEMENTARY INFORMATION: All times shown are in Hawaii Standard Time. The 142nd SSC meeting will be held between 11 a.m. and 5 p.m. on November 30-December 2, 2021. The Executive and Budget Standing Committee meeting will be held between 3 p.m. and 5 p.m. on December 6, 2021. The 189th Council meeting will be held between 11 a.m. and 5 p.m. on December 7-9, 2021.

Please note that the evolving public health situation regarding COVID-19 may affect the conduct of the December Council and its associated meetings. At the time this notice was submitted for publication, the Council anticipated convening the meeting by web conference with host site locations in Guam, CNMI and American Samoa for the 189th Council meeting only. Council staff will monitor COVID-19 developments and will determine the extent to which in-person public participation at host sites will be allowable consistent with applicable local and federal safety and health guidelines. If public participation will be limited to web conference only or on a first-come-first-serve basis consistent with applicable guidelines, the Council will post notice on its website at www.wpcouncil.org.

Agenda items noted as “Final Action” refer to actions that may result in Council transmittal of a proposed fishery management plan, proposed plan amendment, or proposed regulations to the U.S. Secretary of Commerce, under Sections 304 or 305 of the MSA. In addition to the agenda items listed here, the Council and its advisory bodies will hear recommendations from Council advisors. An opportunity to submit public comment will be provided throughout the agendas. The order in which agenda items are addressed may change and will be announced in advance at the Council meeting. The meetings will run as late as necessary to complete scheduled business.

Background documents for the 189th Council meeting will be available at www.wpcouncil.org. Written public comments on final action items at the 189th Council meeting should be received at the Council office by 5 p.m. HST, December 3, 2021, and should be sent to Kitty M. Simonds, Executive Director; Western Pacific Fishery Management Council, 1164 Bishop Street, Suite 1400, Honolulu, HI 96813, phone: (808) 522-8220 or fax: (808) 522-8226; or email: info@wpcouncil.org. Written public comments on all other agenda items may be submitted for the record by email throughout the duration of the meeting. Instructions for providing oral public comments during the meeting will be posted on the Council website. This meeting will be recorded (audio only) for the purposes of generating the minutes of the meeting.

Agenda for the 142nd SSC Meeting

Tuesday, November 30, 2021, 11 a.m. to 5 p.m.

1. Introductions

2. Approval of Draft Agenda and Assignment of Rapporteurs

3. Status of the 141st SSC Meeting Recommendations

4. Pacific Islands Fisheries Science Center (PIFSC) Director Report

5. Program Planning and Research

A. Report on the Territorial Creel Survey Expansion

B. Report on the Center for Independent Experts (CIE) Review of the Territorial Creel Survey Expansion

C. Improving Collaboration Between Stakeholders: Territorial Bottomfish Stock Assessment in the Pacific Islands

D. Report on the American Samoa Bottomfish Data Workshop with the Department of Marine and Wildlife Resources (DMWR)

E. SSC Working Group Report on American Samoa Bottomfish Data Evaluation

F. Council Coordination Committee (CCC) Reports

1. Area-Based Management Working Group

2. Environmental Justice

G. Public Comment

H. SSC Discussion and Recommendations

6. Protected Species

A. Hawaii Longline Fishery Seabird Mitigation Measures

1. Modification of Seabird Interaction Mitigation Measures in the Deep-Set Longline Fishery (Action Item)

2. Hawaii Shallow-Set Longline Fishery Experimental Fishing Permit

B. False Killer Whale Issues

1. Report of the False Killer Whale Weak Hook Study

2. Hawaii Longline Acoustic Monitoring Study

3. Take Reduction Plan Research Priorities

C. Endangered Species Act (ESA) Consultations for the Hawaii Deep-set Longline Fishery, American Samoa Longline Fishery, and Bottomfish Fisheries

D. ESA and Marine Mammal Protection Act (MMPA) Updates

E. Public Comment

F. SSC Discussion and Recommendations

Wednesday, December 1, 2021, 11 a.m. to 5 p.m.

7. Pelagic and International Fisheries

A. American Samoa Longline Fishery Report

B. Hawaii Longline Fishery Report

C. Hawaii Community Tagging Program

D. Horizontal Movements, Utilization Distributions, and Mixing Rates of Yellowfin Tuna

E. SSC Working Group on Area-Based Management

F. International Fisheries

1. South Pacific Regional Fishery Management Organization Science Committee

2. 18th Western and Central Pacific Fisheries Commission (WCPFC) Regular Session

G. Public Comment

H. SSC Discussion and Recommendations

Thursday, December 2, 2021, 11 a.m. to 5 p.m.

8. Other Business

A. March 15-17, 2022 SSC Meeting Dates

9. Summary of SSC Recommendations to the Council

Agenda for the Executive and Budget Standing Committee

Monday, December 6, 2021, 3 p.m. to 5 p.m.

1. Financial Reports

2. Administrative Reports

3. Fall CCC Report

A. Area-Based Management Working Group

B. Environmental Justice

4. Council Programs

5. Council Family Changes

6. Meetings and Workshops

7. Other Issues

8. Public Comment

9. Discussion and Recommendations

Agenda for the 189th Council Meeting

Tuesday, December 7, 2021, 11 a.m. to 5 p.m.

1. Welcome and Introductions

2. Approval of the 189th Agenda

3. Approval of the 187th and 188th Meeting Minutes

4. Executive Director's Report

5. Agency Reports

A. NMFS

1. Pacific Islands Regional Office

2. PIFSC

B. NOAA Office of General Counsel Pacific Islands Section

C. Enforcement

1. U.S. Coast Guard

2. NOAA Office of Law Enforcement

3. NOAA Office of General Counsel Enforcement Section

D. U.S. State Department

E. U.S. Fish and Wildlife Service

F. Public Comment

G. Council Discussion and Action

6. Program Planning and Research

A. National Legislative Report

B. Report on the Territorial Creel Survey Expansion

C. Report on the CIE Review of the Territorial Creel Survey Expansion

D. Improving Collaboration Between Stakeholders: Territorial Bottomfish Stock Assessment in the Pacific Islands

E. Regional Communications and Outreach Report

F. Advisory Group Report and Recommendations

1. Advisory Panel (AP)

2. Fishing Industry Advisory Committee (FIAC)

3. Non-Commercial Fishing Advisory Committee (NCFAC)

4. Social Science Planning Committee

5. SSC

G. Public Comment

H. Council Discussion and Action

Tuesday, December 7, 2021, 4:30 p.m. to 5 p.m.

Public Comment on Non-Agenda Items

Wednesday, December 8, 2021, 11 a.m.-5 p.m.

7. Mariana Archipelago

A. Guam

1. Department of Agriculture/Division Aquatic and Wildlife Resources Report

2. Isla Informe

3. The Pacific Community (SPC) Regional Technical Meeting on Coastal Fisheries and Aquaculture

B. CNMI

1. Arongol Falú

2. Department of Lands Natural Resources/Division of Fish and Wildlife Report

C. Advisory Group Report and Recommendations

1. AP

2. FIAC

3. NCFAC

4. SSC

D. Public Comment

E. Council Discussion and Action

8. American Samoa Archipelago

A. Motu Lipoti

B. DMWR Report

C. Report on the American Samoa Bottomfish Data Workshop with DMWR

D. SSC Report on the American Samoa Bottomfish Data Evaluation

E. SPC Regional Technical Meeting on Coastal Fisheries and Aquaculture

F. Advisory Group Report and Recommendations

1. AP

2. FIAC

3. NCFAC

4. SSC

G. Public Comment

H. Council Discussion and Action

9. Protected Species

A. Hawaii Longline Fishery Seabird Mitigation Measures

1. Modification of Seabird Interaction Mitigation Measures in the Deep-Set Longline Fishery (Final Action)

2. Hawaii Shallow-Set Longline Fishery Experimental Fishing Permit

B. False Killer Whale Issues

1. Report of the False Killer Whale Weak Hook Study

2. Hawaii Longline Acoustic Monitoring Study

C. ESA Consultations for the Hawaii Deep-Set Longline Fishery, American Samoa Longline Fishery, and Bottomfish Fisheries

D. ESA and MMPA Updates

E. Advisory Group Report and Recommendations

1. AP

2. FIAC

3. NCFAC

4. SSC

F. Public Comment

G. Council Discussion and Action

Thursday, December 9, 2021, 11 a.m.-5 p.m.

10. Pelagic and International Fisheries

A. American Samoa Longline Fishery Report

B. Hawaii Longline Fishery Report

C. Hawaii Community Tagging Program

D. Area-Based Management Working Group Reports

1. CCC Working Group

2. SSC Working Group

E. International Fisheries

1. WCPFC 17th Technical and Compliance Committee

2. WCPFC 17th Northern Committee Report

3. Permanent Advisory Committee

4. South Pacific Albacore Management Issues

5. Outcome of WCPFC 18th Regular Session

F. Advisory Group Report and Recommendations

1. AP

2. FIAC

3. NCFAC

4. SSC

G. Pelagic and International Standing Committee

H. Public Comment

I. Council Discussion and Action

11. Hawaii Archipelago and Pacific Remote Island Areas

A. Moku Pepa

B. Department of Land and Natural Resources/Division of Aquatic Resources Report (Legislation, Enforcement)

C. Green Turtle Management

D. Northwestern Hawaiian Islands Proposed National Marine Sanctuary Update

E. Advisory Group Report and Recommendations

1. AP

2. FIAC

3. NCFAC

4. SSC

F. Public Comment

G. Council Discussion and Action

12. Administrative Matters

A. Council Member and Staff Ethics Training

B. Financial Reports

C. Administrative Reports

D. Fall CCC Report

1. Environmental Justice

E. Proposed Coral Reef Projects

F. Council Family Changes

G. Meetings and Workshops

H. Standing Committee Report

I. Public Comment

J. Council Discussion and Action

13. Other Business

14. Election of Officers

Non-emergency issues not contained in this agenda may come before the Council for discussion and formal Council action during its 189th meeting. However, Council action on regulatory issues will be restricted to those issues specifically listed in this document and any regulatory issue arising after publication of this document that requires emergency action under section 305(c) of the Magnuson-Stevens Act, provided the public has been notified of the Council's intent to take action to address the emergency.

Special Accommodations

These meetings are accessible to people with disabilities. Requests for sign language interpretation or other auxiliary aids should be directed to Kitty M. Simonds, (808) 522-8220 (voice) or (808) 522-8226 (fax), at least 5 days prior to the meeting date.

Authority: 16 U.S.C. 1801 et seq.

Dated: November 10, 2021.
Tracey L. Thompson,
Acting Deputy Director, Office of Sustainable Fisheries, National Marine Fisheries Service.

[FR Doc. 2021-24964 Filed 11-15-21; 8:45 am]

BILLING CODE 3510-22-P